DEPARTMENT OF ENERGY

Notice of Intent To Prepare an Environmental Impact Statement for a Proposed Federal Loan Guarantee To Support Construction of the Topaz Solar Farm, San Luis Obispo County, CA

AGENCY: Loan Guarantee Program, Department of Energy.

ACTION: Notice of intent to prepare an environmental impact statement and conduct a public scoping meeting and notice of proposed floodplain action.

SUMMARY: The U.S. Department of Energy (DOE) announces its intent to prepare an environmental impact statement (EIS) pursuant to the National Environmental Policy Act of 1969, as amended (NEPA), the Council on Environmental Quality (CEQ) NEPA regulations, and the DOE NEPA implementing procedures, to assess the potential environmental impacts of its proposed action of issuing a Federal loan guarantee to Topaz Solar Farms, LLC (Topaz) (DOE/EIS-0458). Topaz submitted an application to DOE under the Federal loan guarantee program pursuant to the Energy Policy Act of 2005 (EPAct 2005) to support construction of the Topaz Solar Farm Project located in San Luis Obispo County, California (the Project).

Topaz is a limited liability company that is owned by First Solar, Inc. Topaz proposes to develop the Project on approximately 4,000 acres of land. As proposed, the approximately 550-megawatt electric generation project would include the installation of about nine million photovoltaic (PV) solar modules within approximately 437 arrays and associated electric equipment. At full capacity, the Project would generate enough electricity to power an estimated 160,000 California homes annually. Generated electricity would be sold to Pacific Gas and Electric (PG&E) under a long-term power purchase agreement. The Project would be interconnected into PG&E's existing Morro Bay-Midway 230-kilovolt (kV) transmission line, which runs in an east-to-west direction through the site.

The EIS will evaluate the potential environmental impacts of the issuance of a DOE Loan Guarantee for Topaz's proposed Project and the range of reasonable alternatives. The purposes of this Notice of Intent are to inform the public about DOE's proposed action; invite public participation in the EIS process; announce plans for a public scoping meeting; and solicit public comments for consideration in establishing the scope and content of the EIS. DOE is hereby providing notice of a proposed action in a floodplain and that DOE will include a floodplain assessment in the EIS. DOE invites those agencies with jurisdiction by law or special expertise to be cooperating agencies.

DATES: The public scoping period will begin with publication of this Notice of Intent and end on November 22, 2010. To ensure that all of the issues related to this proposal are addressed, DOE invites comments on the proposed scope and content of the EIS from all interested parties. Comments must be postmarked or e-mailed by November 22, 2010 to ensure consideration. Late comments will be considered to the extent practicable.

ADDRESSES: Public comments can be submitted electronically or by U.S. Mail. Written comments on the proposed EIS scope should be signed and addressed to the NEPA Document Manager for this project: Ms. Angela Colamaria, Loan Guarantee Program (LP-10), U.S. Department of Energy, 1000 Independence Avenue, SW., Washington, DC 20585. Electronic submission of comments is encouraged due to processing time required for regular mail. Comments can be submitted electronically by sending an e-mail to: Topaz-EIS@hq.doe.gov. All electronic and written comments should reference DOE/EIS-0458.

In addition to receiving written comments, DOE will conduct a public scoping meeting in the vicinity of the proposed Project at which government agencies, private-sector organizations, and the general public are invited to provide comments or suggestions with regard to the alternatives and potential impacts to be considered in the EIS. The date, time, and location of the public scoping meeting will be announced in local news media and on the DOE Loan Guarantee Program's “NEPA Public Involvement” Web site (http://lpo.energy.gov/?page_id=1502) and the DOE NEPA Web site “Public Participation” Calendar (http://nepa.energy.gov/calendar.htm) at least 15 days prior to the date of the meeting.

FOR FURTHER INFORMATION CONTACT: To obtain additional information about this EIS, the public scoping meeting, or to receive a copy of the draft EIS when it is issued, contact Angela Colamaria by telephone: 202-287-5387; toll-free number: 800-832-0885 ext. 75387; or electronic mail: Angela.Colamaria@hq.doe.gov. For general information on the DOE NEPA process, please contact: Ms. Carol M. Borgstrom, Director, Office of NEPA Policy and Compliance (GC-54), U.S. Department of Energy, 1000 Independence Avenue, SW., Washington, DC 20585; telephone: 202-586-4600; facsimile: 202-586-7031; electronic mail: askNEPA@hq.doe.gov; or leave a toll-free message at 800-472-2756.

SUPPLEMENTARY INFORMATION:

Background

Title XVII of EPAct 2005 established a Federal loan guarantee program for eligible energy projects, and was amended by the American Recovery and Reinvestment Act of 2009, (the Recovery Act) to create Section 1705 of Title XVII (42 U.S.C. 16516), authorizing a new program for rapid deployment of renewable energy projects and related manufacturing facilities, electric power transmission projects, and leading edge biofuels projects. The primary purposes of the Recovery Act are job preservation and creation, infrastructure investment, energy efficiency and science, assistance to the unemployed, and State and local fiscal stabilization. The Section 1705 Program is designed to address the current economic conditions of the nation, in part, through financing renewable energy, transmission and leading edge biofuels projects.

On March 29, 2010, the Royal Bank of Scotland plc, as Lender-Applicant, with Topaz as the borrower, submitted the first part (Part I) of a two-part application to DOE for a Federal loan guarantee under the Solicitation entitled, “Federal Loan Guarantees for Commercial Technology Renewable Energy Generation Projects under the Financial Institution Partnership Program” (Solicitation No. DE-FOA-0000166), issued on October 7, 2009. Topaz submitted Part II of its application on August 10, 2010.

Purpose and Need for Agency Action

The purpose and need for action by DOE is to comply with its mandate under EPAct 2005 by selecting eligible projects that meet the goals of the Act, as summarized above. The EIS will inform DOE's decision on whether to issue a loan guarantee to Topaz to support the proposed Project.

Proposed Action

DOE's proposed action is to issue a loan guarantee to Topaz to support construction of the Topaz Solar Farm. The Project would be located in an unincorporated portion of eastern San Luis Obispo County, California, adjacent to Highway 58 and east of Bitterwater Road. Topaz has options to purchase approximately 10,000 acres of land in the Project area. The Project would be developed on approximately 4,000 to 4,100 acres of land within one of two overlapping study areas:

Study Area A, the southernmost study area, includes approximately 8,000 acres. If the Project is located within Study Area A, the fenced area would be approximately 4,100 acres.

Study Area B, the northernmost study area, includes approximately 6,300 acres. If the Project is located within Study Area B, the fenced area would be approximately 4,000 acres.

The study areas are larger than what would be needed to develop the project in order to allow flexibility in the final project design. The proposed Project would consist of: A solar field of ground-mounted PV modules that collect solar radiation to produce electricity; an electrical collection system that converts generated power from direct current (DC) to alternating current (AC) and delivers it to the Project substation; the aforementioned Project substation that collects and converts the generated power from 34.5 kV to 230 kV for delivery via a new PG&E switching station to PG&E's existing Morro Bay-Midway 230-kV transmission line; and the aforementioned PG&E switching station that interconnects the Project to PG&E's existing transmission line. After construction, PG&E would own and operate the switching station.

The Project's solar field would consist of 437 solar arrays. Each solar array would generate 1.3 megawatts alternating current of power and would consist of up to 20,000 PV modules and one power conversion station. Each power conversion station would consist of two inverters in an air-conditioned enclosure and one adjacent transformer. Each array would cover approximately seven acres of land.

Eight to twelve miles of overhead 34.5-kV high-capacity collection system lines, with two to four circuits each, would connect the power output from each of the solar arrays to the on-site Project substation. Wooden poles approximately 43 feet high would support these overhead lines.

The Project substation would collect the output and transform it from 34.5 kV to 230 kV. The substation would occupy approximately 4.5 acres and would be adjacent to the PG&E switching station, where the 230-kV output of the substation would be connected and delivered to the Morro Bay-Midway 230-kV transmission line.

The new PG&E switching station would be adjacent to the existing PG&E Morro Bay-Midway 230-kV transmission line. The Morro Bay-Midway 230-kV transmission line traverses the Project site just south of the PG&E switching station. Two new 100- to 125-foot-high double-circuit lattice steel transmission towers and four steel poles would be installed to accommodate the looping of PG&E's 230-kV line into the switching station. The towers and poles would be within or adjacent to the existing PG&E transmission line right-of-way as well as located on either side of the new PG&E switching station to position the transmission conductors for proper ingress and egress to the station. Construction of the interconnection between the existing Morro Bay-Midway 230-kV line and the new PG&E switching station would be undertaken by PG&E.

Topaz has interconnection agreements in place for the first 400 MW of Project capacity. The California Independent System Operator has determined that network upgrades would be required to accommodate the Project's remaining 150 MW, as well as other generation projects in the region. Network upgrades could include the reconductoring of the 230-kV transmission lines between the new PG&E switching station and the Midway Substation.

As part of the proposed Project, Topaz would construct and operate a solar energy learning center within the Project's site boundary. Topaz would work with local educators to develop exhibits, tours, and educational programs for the center that would complement existing science and sustainability curricula. The center would be able to accommodate several class field trips per day, as well as 100 to 200 visitors per month. The center would be a 30-foot-by-30-foot enclosed building, compliant with the Americans with Disabilities Act, with restrooms, a scale model of the solar facilities, and exhibits on solar power.

Alternatives

In determining the range of reasonable alternatives to be considered in the EIS for the proposed Project, DOE identified the reasonable alternatives that would satisfy the underlying purpose and need for agency action. DOE currently plans to analyze in detail the Project proposed by Topaz and the No Action alternative. Topaz's site selection criteria for the Project included environmental sensitivity, topography, electrical grid system integration, high solar production potential, and disturbed land availability. Topaz determined that the Project area met these criteria because it has a strong solar resource, is adjacent to a transmission line with available capacity, contains relatively flat terrain and consists of previously disturbed, available land. Within the Project area, Topaz identified two Study Areas (Study Area A and Study Area B) that would be suitable for the Project, although construction of the Project would take place on only one Study Area if the Project is approved. DOE will analyze both Study Areas (Study Area A and Study Area B) available to Topaz as options, within the scope of the Project and mitigation measures as appropriate.

Under the No Action alternative, DOE would not provide the loan guarantee to Topaz. In this case, Topaz may have greater difficulty obtaining financing for the Project, which may result in a delay in the start of construction, construction in smaller phases over a longer time period, potentially increased project cost, or could possibly result in the Project not being built. Although Topaz may still pursue the Project without the loan guarantee, as defined above, for purposes of this NEPA analysis, it is assumed that the No Action alternative would include a no Project or no build scenario.

Notice of Proposed Floodplain Action

DOE is hereby providing notice of a proposed DOE action in a floodplain pursuant to DOE Floodplain and Wetland Environmental Review Requirements (10 CFR Part 1022). Overhead electrical lines would need to cross 100-year floodplains (unnamed drainages within the Carrizo Plain, northwest of Soda Lake). Since some of the floodplains on the project site are greater than 200 feet wide and posts are needed every 200 feet to support overhead lines, the installation of some posts within the floodplain is anticipated. DOE will prepare a floodplain assessment as required by DOE regulations. The floodplain assessment will be included as part of the EIS that DOE is preparing for this project. Interested parties may comment during the scoping period following the publication of this NOI and will also be able to comment on the floodplain assessment when the Draft EIS is published.

Preliminary Identification of Environmental Issues

DOE has tentatively identified the following environmental resource areas for consideration in the EIS. This list is neither intended to be all-inclusive nor a predetermined set of potential environmental impacts:

Air quality.

Greenhouse gas emissions and climate change.

Energy use and production.

Water resources, including groundwater and surface waters.

Wetlands and floodplains.

Geological resources.

Ecological resources, including species of special concern and threatened and endangered species such as the San Joaquin kit fox, longhorn fairy shrimp and vernal pool fairy shrimp.

Cultural resources, including historic structures and properties; sites of religious and cultural significance to Tribes; and archaeological resources.

Land use.

Visual resources and aesthetics.

Transportation and traffic.

Noise and vibration.

Hazardous materials and solid waste management.

Human health and safety.

Accidents and terrorism.

Socioeconomics, including impacts to community services.

Environmental justice.

Cumulative impacts.

DOE invites comments on whether other resource areas or potential issues should be considered in the EIS.

Public Scoping Process

To ensure that all issues related to DOE's proposed action are addressed, DOE seeks public input to define the scope of the EIS. The public scoping period will begin with publication of this Notice of Intent and end on November 22, 2010. Interested government agencies, private-sector organizations, and the general public are encouraged to submit comments concerning the content of the EIS, issues and impacts that should be addressed, and alternatives that should be considered. Scoping comments should clearly describe specific issues or topics that the EIS should address to assist DOE in identifying significant issues for analysis. Comments must be postmarked or e-mailed by November 22, 2010 to ensure consideration. (See ADDRESSES above). Late comments will be considered to the extent practicable. DOE invites those agencies with jurisdiction by law or special expertise to be cooperating agencies in the preparation of this EIS.

A public scoping meeting will be held during the scoping period, at a date, time, and location to be determined. Notice of this meeting will be provided in local news media and on the DOE Loan Guarantee Program's “NEPA Public Involvement” Web site (http://loanprograms.energy.gov/?page_id=337) and the DOE's NEPA Web site “Public Participation” Calendar (http://nepa.energy.gov/calendar.htm) at least 15 days prior to the date of the meeting. Members of the public and representatives of groups and Federal, State, local, and Tribal agencies are invited to attend. The meeting will include both a formal opportunity to present oral comments and an informal session during which DOE and Topaz personnel will be available for discussions with attendees. Displays and other forms of information about the proposed agency action, the EIS process, and Topaz's proposed Project will also be available for review. DOE requests that anyone who wishes to present oral comments at the meeting contact Ms. Colamaria by phone or e-mail (see ADDRESSES above). Individuals who do not make advance arrangements to speak may register at the meeting. Speakers who need more than five minutes should indicate the length of time desired in their request. DOE may need to limit speakers to five minutes initially, but will provide additional opportunities as time permits. Written comments regarding the scoping process can also be submitted to DOE officials at the scoping meeting.

The DOE will use and coordinate the NEPA commenting process to satisfy the public involvement process for Section 106 of the National Historic Preservation Act (16 U.S.C. 470f) as provided for in 36 CFR 800.2(d)(3). Because the Topaz project site is expected to impact waters subject to the jurisdiction of the U.S. Army Corps of Engineers, the project will require a Section 404 Permit. In addition, because the proposed Topaz project may affect listed species under the Endangered Species Act (ESA), DOE will also initiate consultation regarding the project with the U.S. Department of the Interior's Fish and Wildlife Service under Section 7 of the ESA. DOE will also invite Federally-recognized American Indian Tribes that have historic interests in the area to government-to-government consultation regarding the project. Government-to-government consultation will be offered to Indian Tribes, and Tribal concerns, including impacts on Indian trust assets, will be given appropriate consideration. Federal, State, and local governments—along with other stakeholders who may be interested or affected by the DOE's decision on this Project—are invited to participate in the scoping process and, if eligible, may request or be requested by the DOE to participate as a cooperating agency.

Issued in Washington, DC, on October 18, 2010.
Jonathan M. Silver,
Executive Director, Loan Programs Office.

[FR Doc. 2010-26712 Filed 10-21-10; 8:45 am]

BILLING CODE 6450-01-P